ENVIRONMENTAL PROTECTION AGENCY

[EPA-HQ-OPP-2006-0311; FRL-8255-4]

Agency Information Collection Activities; Submission to OMB for Review and Approval; Comment Request; Notice of Supplemental Distribution of a Registered Pesticide Product; EPA ICR No. 0278.09, OMB Control No. 2070-0044

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR, which is abstracted below, describes the nature of the information collection activity and its expected burden and costs.

DATES: Additional comments may be submitted on or before January 16, 2007.

ADDRESSES: Submit your comments, referencing Docket ID No. EPA-HQ-OPP-2006-0311, to (1) EPA online using http://www.regulations.gov (our preferred method), or by mail to: Office of Pesticide Programs (OPP) Regulatory Public Docket (7502P), Environmental Protection Agency, 1200 Pennsylvania Ave., NW., Washington, DC 20460-0001, and (2) OMB by mail to: Office of Information and Regulatory Affairs, Office of Management and Budget (OMB), Attention: Desk Officer for EPA, 725 17th Street, NW., Washington, DC 20503.

FOR FURTHER INFORMATION CONTACT: Nathanael R. Martin, Field and External Affairs Division, Office of Pesticide Programs, 7506P, Environmental Protection Agency, 1200 Pennsylvania Ave., NW., Washington, DC 20460-0001; telephone number: 703-305-6475; fax number: 703-305-5884; e-mail address: martin.nathanael@epa.gov.

SUPPLEMENTARY INFORMATION: EPA has submitted the following ICR to OMB for review and approval according to the procedures prescribed in 5 CFR 1320.12. On May 10, 2006 (71 FR 27240), EPA sought comments on this ICR pursuant to 5 CFR 1320.8(d). EPA received no comments. Any additional comments on this ICR should be submitted to EPA and OMB within 30 days of this notice.

EPA has established a public docket for this ICR under Docket ID No. EPA-HQ-OPP-EPA-HQ-OPP-2006-0311, which is available for online viewing at http://www.regulations.gov, or in person viewing at the OPP Regulatory Public Docket in Rm. S-4400, One Potomac Yard (South Building), 2777 S. Crystal Drive, Arlington, VA. This docket facility is open from 8:30 a.m. to 4 p.m., Monday through Friday, excluding legal holidays. The docket telephone number is (703) 305-5805.

Use EPA's electronic docket and comment system at http://www.regulations.gov, to submit or view public comments, access the index listing of the contents of the docket, and to access those documents in the docket that are available electronically. Once in the system, select “docket search,” then key in the Docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Notice of Supplemental Distribution of a Registered Pesticide Product.

ICR Numbers: EPA ICR No. 0278.09, OMB Control No. 2070-0044.

ICR Status: This is a request to renew an existing approved collection. This ICR is scheduled to expire on January 31, 2007. Under OMB regulations, the Agency may continue to conduct or sponsor the collection of information while this submission is pending at OMB. This ICR describes the nature of the information collection and its estimated burden and cost.

Abstract: This information collection activity provides the Environmental Protection Agency (EPA) with notification of supplemental registration of distributors of pesticide products. Section 3(e) of the Federal Insecticide, Fungicide and Rodenticide Act (FIFRA) (see 7 U.S.C. 136a(e)), allows pesticide registrants to distribute or sell a registered pesticide product under a different name instead of or in addition to his own. Such distribution and sale is termed “supplemental distribution” and the product is termed a “distributor product.” EPA is responsible for the regulation of pesticides as mandated by FIFRA, as amended. EPA requires the pesticide registrant to submit a supplemental statement (EPA Form 8570-5, Notice of Supplemental Distribution of a Registered Pesticide Product) when the registrant has entered into an agreement with a second company that will distribute the registrant's product under the second company's name and product name. Responses to this collection of information are therefore mandatory (see 40 CFR 152.132).

Burden Statement: The annual public reporting and recordkeeping burden for this collection of information is estimated to average about 15 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Pesticide registrants.

Estimated Number of Respondents: 1720.

Frequency of Response: On occasion.

Estimated Total Annual Hour Burden: 595.

Estimated Total Annual Labor Cost: $46,555.62.

Changes in the Estimates: There is a decrease of 405 hours in the total estimated burden currently identified in the OMB Inventory of Approved ICR Burdens. This decrease is an adjustment that reflects EPA's expectation that only 2,479 notices will be submitted to the Agency annually over the next 3 years, versus the 4,000 notices EPA had previously expected to receive on an annual basis.

Dated: December 7, 2006.
Richard T. Westlund,
Acting Director, Collection Strategies Division.

[FR Doc. E6-21293 Filed 12-13-06; 8:45 am]

BILLING CODE 6560-50-P